DEPARTMENT OF HOUSING AND URBAN DEVELOPMENT

24 CFR Part 135

[Docket No. FR-4893-P-01]

RIN 2529-AA91

Creating Economic Opportunities for Low- and Very Low-Income Persons and Eligible Businesses Through Strengthened “Section 3” Requirements

Correction

In proposed rule document 2015-06544 beginning on page 16520 in the issue of Friday, March 27, 2015, make the following corrections:

1. On page 16529, in the second column, in the thirty-seventh line, through the third column, in the first line, remove the sentence, “As discussed, the current threshold is based on the receipt of covered funds, not its expenditure.”

2. On the same page, in the third column, in the thirty-eighth line, at the end of the final line of the paragraph, add, “Further, HUD seeks comment on whether alternative thresholds (e.g., a threshold that applies Section 3 to all construction related projects if a grantee receives a certain amount of HUD funding, or a threshold that would only apply Section 3 to projects or activities that are receiving some minimum amount of housing and community development financial assistance) are more appropriate.”

3. On the same page, in the first table, in the first column, in rows 1, 3 and 5, the word “agencies” should read “recipients.”

[FR Doc. C1-2015-06544 Filed 3-31-15; 8:45 am]

BILLING CODE 1505-01-D